DEPARTMENT OF THE TREASURY

Office of the Comptroller of the Currency

[Docket ID OCC-2014-0020]

Minority Depository Institutions Advisory Committee

AGENCY: Office of the Comptroller of the Currency, Department of the Treasury.

ACTION: Notice of Federal Advisory Committee Meeting.

SUMMARY: The Office of the Comptroller of the Currency (OCC) announces a meeting of the Minority Depository Institutions Advisory Committee (MDIAC).

DATES: The OCC MDIAC will hold a public meeting on Tuesday, October 7, 2014, beginning at 8:30 a.m. Eastern Daylight Time (EDT).

ADDRESSES: The OCC will hold the October 7, 2014, meeting of the MDIAC at the Office of the Comptroller of the Currency, 400 7th Street SW., Washington, DC 20219.

FOR FURTHER INFORMATION CONTACT: Beverly Cole, Senior Advisor to the Senior Deputy Comptroller for Midsize and Community Bank Supervision, (202) 649-5420, Office of the Comptroller of the Currency, Washington, DC 20219.

SUPPLEMENTARY INFORMATION: By this notice, the OCC is announcing that the OCC MDIAC will convene a meeting at 8:30 a.m. EDT on Tuesday, October 7, 2014, at the Office of the Comptroller of the Currency, 400 7th Street SW., Washington, DC 20219. Agenda items include a review of the accomplishments of the MDIAC and a discussion of the status of the minority depository institution industry and current topics of interest to the industry. The purpose of the meeting is for the MDIAC to advise the OCC on steps the OCC may be able to take to ensure the continued health and viability of minority depository institutions and other issues of concern to minority depository institutions. Members of the public may submit written statements to the MDIAC by any one of the following methods:

• Email to MDIAC@occ.treas.gov; or

• Mail to: Beverly Cole, Designated Federal Officer, Office of the Comptroller of the Currency, 400 7th Street SW., Washington, DC 20219.

The OCC must receive written statements no later than Monday, September 29, 2014. Members of the public who plan to attend the meeting and members of the public who require auxiliary aid should contact the OCC by 5:00 p.m. EDT on Wednesday, October 1, 2014, to inform the OCC of their desire to attend the meeting and to provide the information that will be required to facilitate entry into the meeting. Attendees should provide their full name, email address, and organization, if any. Members of the public may contact the OCC via email at MDIAC@occ.treas.gov or by telephone at 202-649-5420.

Dated: August 11, 2014.
Thomas J. Curry,
Comptroller of the Currency.

[FR Doc. 2014-19438 Filed 8-15-14; 8:45 am]

BILLING CODE 4810-33-P